AMERICAN BATTLE MONUMENTS COMMISSION

SES Performance Review Board

AGENCY: American Battle Monuments Commission.

ACTION: Notice.

SUMMARY: Notice is hereby given of the appointment of members of the ABMC Performance Review Board.

FOR FURTHER INFORMATION CONTACT: Theodore Gloukhoff, Director of Personnel and Administration, American Battle Monuments Commission, Courthouse Plaza II, Suite 500, 2300 Clarendon Boulevard, Arlington, Virginia, 22201-3367, Telephone Number: (703) 696-6908.

American Battle Monuments Commission SES Performance Review Board

Mr. Wilbert Berrios, Director, Corporate Information, U.S. Army Corps of Engineers

Mr. Michael Ensch, Chief, Operations and Regulatory CoP, U.S. Army Corps of Engineers

Mr. Mohan Singh, Chief, Interagency & International Services Division, U.S. Army Corps of Engineers

Ms. Kristine Allaman, Chief, Installation Support Division, U.S. Army Corps of Engineers

Theodore Gloukhoff,
Director, Personnel and Administration.

[FR Doc. E8-617 Filed 1-15-08; 8:45 am]

BILLING CODE 6120-01-P